DEPARTMENT OF VETERANS AFFAIRS

Funding Opportunity: Homeless Providers Grant and Per Diem (GPD) Program Case Management Grant

AGENCY: Department of Veterans Affairs.

ACTION: Notice of funding opportunity (NOFO).

SUMMARY: VA is announcing the availability of approximately $15 million per year for up to 2 years, pending availability of funding and grantee performance, in new grants under the case management component of the VA Homeless Providers GPD program.

Applications for grants are being accepted from eligible entities to support case management services. These time-limited case management services will improve retention of housing by Veterans who are at risk of becoming homeless or who were previously homeless and are transitioning to permanent housing from programs such as VA's Homeless Providers GPD program or VA's Health Care for Homeless Veterans (HCHV) Contracted Residential Services (CRS) program.

VA anticipates that the grants will be for a period of 2 years, starting in fiscal year (FY) 2024 on October 1, 2023, and ending on September 30, 2025. VA anticipates awarding approximately 100 grants for up to a total of approximately 150 full-time equivalent case (FTE) manager positions nationwide. Awards may be up to $300,000 total costs per FTE case manager position, with funding requests broken out by year 1 and year 2.

This NOFO contains information concerning the program, application process, available funding, selection criteria and award process.

DATES: Applications for grants must be received by the GPD National Program Office no later than 4:00 p.m. Eastern Time on Thursday, May 4, 2023.

In the interest of fairness to all, this deadline is firm as to date and hour. VA will treat any application received after the deadline as ineligible. Applicants should take this practice into account and submit their materials early to avoid the risk of unanticipated delays, computer service outages or other submission-related problems that might result in ineligibility.

ADDRESSES: Instructions for accessing the application are available at www.va.gov/homeless/gpd.asp. The required documentation for applications is outlined under the Content and Form of the Application section of this NOFO. Standard forms, which must be included as part of a complete application package, may be downloaded directly from VA's GPD program website at www.va.gov/homeless/gpd.asp. Questions may be referred to the GPD National Program Office at GPDGrants@va.gov. For detailed GPD program information and requirements, see 38 CFR part 61.

Application Submission: Applications must be submitted by following the instructions at www.va.gov/homeless/gpd.asp. Applications must be received by the GPD National Program Office no later than 4:00 p.m. Eastern Time on the date of the application deadline. Applications must be submitted as a complete package. Materials arriving separately will not be included in the application package for consideration and may result in the application being rejected or not funded.

In the event of certain errors, such as duplicate applications or multiple applications per Employer Identification Number (EIN), per VA medical center catchment area, VA reserves the right to select which application to consider based on the submission dates and times or based on other factors.

Applicants are advised to refer to this NOFO when completing the online application. NOFO content provides supplementary guidance for completing the online application.

Technical Assistance: Information regarding how to obtain technical assistance with the preparation of a grant application is available on the GPD website at www.va.gov/homeless/gpd.asp.

FOR FURTHER INFORMATION CONTACT: Chelsea Watson, Director, VA Homeless Providers GPD Program Office, GPDGrants@va.gov or 727-273-5619 (This is not a toll-free telephone number).

SUPPLEMENTARY INFORMATION:

Funding Opportunity Title: GPD Case Management Grant.

Announcement Type: Initial.

Funding Opportunity Number: VA-GPD-CM-FY2024.

Assistance Instrument: Grant.

Assistance Listing: 64.024, VA Homeless Providers Grant and Per Diem Program.

Table of Contents

I. Funding Opportunity Description

A. Purpose

B. Background

C. Definitions

D. Approach

Goals and Objective

GPD Case Management

Required Minimum Performance Metrics/Targets

E. Authority

F. Guidance for the Use of Funds

II. Award Information

A. Allocation of Funds

B. Funding Priorities

C. Award Period

III. Eligibility Information

A. Eligibility

B. Cost Sharing or Matching

IV. Application and Scoring Information

A. Content and Form of Application

Organization Profile (Eligibility)

Overview

Application

Abstract

Detailed Application Design

Budget

Organization Leadership

External Attachments

Certifications

B. Scoring

V. Review and Selection Process

A. Application Review

B. Application Selection

Tie Score

Funding Actions

I. Funding Opportunity Description

A. Purpose

Ending and preventing homelessness among Veterans is a priority for VA. VA Homeless Programs Office constitutes the Nation's largest integrated network of homelessness, housing, prevention and rehabilitation services for Veterans. These programs are designed to help Veterans live as self-sufficiently and independently as possible. The foundation for these programs is based on Housing First principles combined with supportive services to ensure Veterans are able to end the cycle of homelessness.

Since 1994, the GPD program has provided Veterans who are experiencing homelessness with community-based transitional housing, supportive services such as case management, and more. These services assist Veterans in attaining or retaining permanent residence. Several types of grants are offered under the umbrella of the GPD program. The grants are designed to meet Veterans at various stages as they move to housing stability. The community organizations who receive these grants offer focused housing stability services through a variety of service models. The GPD program plays a vital role in the continuum of homeless services.

B. Background

Ending Veteran homelessness requires multifaceted approaches. This NOFO represents one such approach. In response to the mounting need in communities to prevent homelessness, this NOFO focuses on upstream prevention approaches to reduce the risk of housing instability. Grants funded from this NOFO will increase housing stability for Veterans.

VA is committed to supporting community-based organizations as they transform projects to meet the challenge of ending homelessness among Veterans.

C. Definitions

The regulations for the GPD program are codified in 38 CFR part 61. Definitions of terms used in the GPD program and in Federal grant programs that are applicable to this NOFO are available in 38 CFR part 61 and 2 CFR part 200. See 38 CFR 61.1 for the definitions. Selected and additional definitions are highlighted here for purposes of this NOFO:

• By-name list: A comprehensive list of every person in a community experiencing homelessness updated in real time.

• Case management: A collaborative client-driven process whereby a range of services are provided to assist individuals in developing their skills to gain or maintain access to needed housing, medical, behavioral health, employment, social, educational and other essential services. Case management activities include housing navigation and providing linkages and training related to the use of basic community resources. Interventions may occur at both the Veteran and system levels. This may include progressive engagement strategies that tailor resources to each Veteran's needs and flexes up supports as greater needs are identified. Case management supports the client's achievement of safe, realistic and reasonable goals within a complex health, social and fiscal environment.

• Case manager: One who provides case management and other services. For purposes of this NOFO, the role generally is not a clinical role. An appropriate candidate might have any of a variety of titles, clinical or non-clinical, as long as they are qualified and able to fill the minimum expectations of the role as described in the NOFO and in the grant application. The case manager routinely assesses the needs of the Veteran and arranges, coordinates, monitors, evaluates and advocates for a package of multiple services to meet the specific client's complex needs.

• Caseload: The average monthly number of Veterans an FTE case manager is engaged with in housing navigation and in housing retention services.

• Continuum of Care (CoC): According to the Department of Housing and Urban Development (HUD), a CoC is a program designed to promote community-wide commitment to the goal of ending homelessness; provide funding for efforts by nonprofit providers and state or local governments to quickly rehouse individuals and families experiencing homelessness while minimizing the trauma and dislocation caused to individuals, families and communities by homelessness; promote access to and effect utilization of mainstream programs by individuals and families experiencing homelessness; and optimize self-sufficiency among individuals and families experiencing homelessness.

• Coordinated entry process: A process through which people experiencing homelessness can access the crisis response system and housing in a streamlined way, have their strengths and needs quickly assessed and connect to tailored housing and mainstream services within the community.

• Critical Time Intervention (CTI): An evidence-based, structured and time-limited case management practice that mobilizes support for vulnerable populations during transition periods. This phased case management approach bolsters substantial supports in the early months of transition with these supports gradually tapering over time.

• Encounter: An initial engagement with a Veteran that may or may not lead to initiating case management services. Encounters are part of a case manager's overall workload but are not counted toward caseload.

• Full-time equivalent (FTE): A full-time case management position is defined as an average of 40 hours per week. Workload may be shared among multiple staff. Therefore, “FTE” refers to the number of full-time equivalent positions regardless of how many case managers contribute to completing the hours. Half-time equivalent positions of 20 hours per week may be requested.

• Homeless Management Information System (HMIS): A locally administered web-based data system used to record and analyze both project and client information at the local CoC level. HMIS is used by Federal partners, including VA, to measure project performance and participate in benchmarking of the national effort to end homelessness. Currently, using HMIS is required for GPD case management grantees.

• Housing Navigation: Services provided to help Veteran participants locate and obtain or retain permanent, stable residence. It may include activities such as outreach to property owners, connecting to legal services, landlord mediation, education, providing information on landlord and tenant issues or identifying local community resources.

• Supplemental Security Income/Social Security Disability Insurance (SSI/SSDI) Outreach, Access and Recovery (SOAR): A non-VA, Federal resource that can substantially assist Veterans experiencing or at risk for homelessness by providing them with consistent income that often promotes permanent housing stability, self-sustainment, functional independence and ongoing care for Veterans with disabling conditions.

• Workload: Activities performed during the 40-hour work week. Case manager workload includes caseload (for example, housing navigation and housing retention services for Veterans) and outreach (for example, encounters with Veterans). Associated administrative responsibilities also are included in workload.

D. Approach

Goals and Objective

The goals of projects under assistance listing 64.024, VA Homeless Providers Grant and Per Diem program, are to provide transitional housing and supportive services to Veterans experiencing homelessness as they move toward and retain permanent housing. To achieve these goals, the objective of this NOFO is to provide funds for case management services. Grants awarded under this NOFO will contribute to the achievement of the goals and objective by increasing the availability of case management services available to Veterans and by increasing permanent housing retention by Veterans. Program performance and project performance will be indicated by the average monthly caseload of the FTE GPD-funded case managers and by the percentage of Veterans who retained permanent housing upon exiting from case management.

Applicants agree to meet the applicable requirements of 38 CFR part 61 as a part of the effort to end homelessness among the Nation's Veterans. Applicants agree to meet the applicable requirements of 2 CFR part 200 as part of the Federal-wide initiative to administer Federal financial assistance systematically and uniformly.

GPD Case Management

Case management services, as defined in this NOFO and as described in 38 CFR 61.90(b), may be provided to help overcome and troubleshoot barriers to acquiring, reacquiring and maintaining permanent housing. Case management, including housing navigation services, can help Veterans obtain permanent housing based on their unique needs, preferences and financial resources. Case managers may provide supports to address issues that may impede access to housing (such as credit history, arrears and legal issues), may negotiate manageable and appropriate lease agreements with landlords and may make appropriate and time-limited services available. Case managers also may monitor participants' housing stability after securing housing and during project participation, ideally through home visits and communication with landlords and may be available to resolve housing-related crises.

Examples of case management services that grantees can provide using these grant funds include, but are not limited to, the following:

• Supporting housing search and placement activities to facilitate transitions for Veterans into permanent housing.

• Making home visits by the case manager to monitor housing stability and assess the need for services or other supports.

• Providing or coordinating educational activities related to meal planning, tenant responsibilities, the use of public transportation, community resources, financial management and development of natural supports.

• Navigating resources provided by the Federal Government and State, local and Tribal governments.

• Making referrals to needed services, such as mental health, substance use disorder, medical and employment services.

• Participating in case conferencing with other service providers working with Veterans (e.g., GPD transitional housing grantees, Supportive Services for Veteran Families (SSVF) grantees, other community-based organizations).

• Eviction diversion through the facilitation of landlord/tenant mediation.

Applicants should note that, when possible, case management services should occur in-person; however, virtual case management services (for example, conducting home visits remotely) may be necessary at times. In these cases, GPD encourages applicants to maximize use of technology that offers the richest possible interaction for the individuals involved, such as video and accessibility-friendly technology, and to have written procedures in place regarding the use of virtual case management services.

The minimum educational requirement for case managers funded by GPD case management grants is a bachelor's degree. Four years of case management or housing navigation experience may be substituted for the educational requirement. Grantees may consider lived experience when selecting Case Managers, but lived experience is not a substitute for the educational or work experience requirements. Applicants proposing to use staff who have not yet met the minimum local requirements for licensure and certification, may propose such individuals as staff under the grant as long as they: (1) demonstrate that the project is located in a geographic area where such staff are in high demand; and (2) confirm that the proposed individuals will have a master's degree in social work, will be undergoing training to meet the local licensure and certification requirements and will be under the supervision of a person who meets the local licensure and certification requirements. Within the application, applicants may establish more stringent minimum education, experience and training requirements (see Detailed Application Design section of the NOFO, e.g., Ability). Applicants should carefully consider the minimum educational requirements established in their grant applications, because the GPD National Program Office will likely not honor reductions to minimum credentials after the grant is awarded. Grantees are responsible for complying with any local requirements for licensure or certification.

An FTE position is expected to manage an average monthly caseload of at least 16 Veterans in permanent housing or in housing navigation. Encounters with Veterans count toward the FTE's overall workload but do not count toward caseload. The majority of each FTE's overall workload must be dedicated to caseload. Applicants must have written procedures and position descriptions to implement these FTE workload and caseload requirements. Applicants who can demonstrate that the need in their community is sufficient to meet or exceed caseload expectations are encouraged to apply.

All grantees must participate in HMIS and in their local coordinated entry system. These systems rely on real-time, high-quality data entry. Precise and accurate data is expected to be entered into HMIS by grantees in a timely manner. Grantees are expected to conduct second-level reviews of entered data. Chart reviews of participant files in HMIS must be conducted monthly to ensure all required documentation of services. At a minimum, the following should be included in the HMIS file to the extent the local HMIS implementation allows for it: all HMIS Universal Data Elements, all applicable Program Specific Data Elements and all Federal Partner Program Data Elements. These elements are defined by the VA Data Guide and include participant identification information, household information, demographics, entry and exit data, income source data, health and health care information and updated release of information. Grantees also are expected to engage with their local CoCs and by-name list, case conferencing and general planning processes to the fullest extent possible. Applicants should plan staff time and position descriptions accordingly in order to fulfill HMIS responsibilities. Grantees must treat the data for activities funded from the GPD grant separate from that of activities funded by other programs. Grantees will be required to work with their HMIS Administrators to export client-level data for activities funded from the GPD grant to VA on at least a monthly basis. The completeness and quality of grantee uploads into HMIS will be factored into the evaluation of their grant performance.

The case management resource must not be used to duplicate or replace activities that are funded from another source (refer to 2 CFR 200.405(c)-(d) for details about allocable costs). Also, the case management resource must be maximized to provide case management services to as many Veterans as possible, including those who are transitioning to permanent housing from programs such as GPD or HCHV CRS. One way to maximize the case management resource is to proactively develop strong collaborations to fill in service gaps left by other programs and to complement or enhance activities happening under other programs. Keeping carefully documented records can demonstrate how a grantee is distinguishing between duplication (unallowable) versus complementation or enhancement (allowable). The following are examples of how to collaborate with other programs to complement or enhance activities while avoiding duplication:

• GPD's Bridge Housing model provides short-term transitional housing for Veterans who have accepted a permanent housing intervention but are not able to immediately enter their permanent housing unit. Successful case management grants are deeply connected with community providers who use the Bridge Housing model and are prepared to provide housing navigation services (if not being provided under the Bridge Housing grant) and to facilitate a warm handoff as the Veteran enters permanent housing and becomes eligible for the case management services.

○ For example, case management grantees could begin engagement with Veterans discharged from Bridge Housing and placed in permanent, non-VA-supported housing (in other words, a Veteran in permanent housing that is not supported by the Department of Housing and Urban Development- Veteran Affairs Supportive Housing (HUD-VASH)).

• GPD's Transition in Place (TIP) housing model offers Veteran residents housing in which supportive services transition out of the residence over time, rather than the resident. This allows the Veteran to remain in the residence rather than being forced to find other housing while stabilizing. Successful case management grants are deeply connected with community providers who use the TIP housing model and are prepared to provide case management after the Veteran assumes the lease and completes the TIP services.

○ For example, case management grantees could begin engagement with Veterans discharged from TIP and in permanent, non-VA-supported housing.

• SSVF offers temporary financial assistance and supportive services to Veterans entering permanent housing or residing in permanent housing and at risk for homelessness. These Veterans are ideal candidates for rich, time-limited case management services to assist them in retaining stable housing. Successful case management grantees maintain strong connections to SSVF programs in their area to provide complementary (but not duplicative) case management services to Veterans, where appropriate and needed to ensure the Veteran can maintain permanent housing.

○ For example, case management grantees may potentially serve a Veteran receiving SSVF Temporary Financial Assistance only. Coordination with VA team members, such as the SSVF regional coordinator or GPD liaison, should occur to ensure appropriate use of the service.

• HUD-VASH provides supportive services to Veterans who have received a HUD voucher. The supportive services assist Veterans in retaining stable housing and in paying for permanent housing. GPD encourages case management grantees to maintain relationships with VA medical center Homeless Programs staff, to include HUD-VASH staff.

○ Typically, however, Veterans served by HUD-VASH have lifetime access to case management services and will not likely be eligible to be served by this grant. If the VA medical center HUD-VASH team is unable to provide case management services to a Veteran in need, grantees should reach out to their GPD liaison to discuss coordination and ability to serve a Veteran in this instance.

○ GPD case management grantees have the option of participating in the HUD-VASH GPD Collaborative Case Management (CCM) partnership if the partnering VA medical center agrees. CCM is an opportunity for GPD case managers to collaborate with their local VA medical facilities HUD-VASH program to provide housing navigation and time-limited case management services to lower acuity Veterans who are entering housing via a HUD-VASH enrollment. CCM enhances and expedites HUD-VASH voucher utilization by partnering with existing GPD case management services. Veterans served by this collaboration must be eligible to receive services through both programs. Much of the pre-housing work normally performed by VA HUD-VASH staff shifts to the GPD CCM case manager. CCM case managers may assist Veterans with searching for housing, obtaining housing placements, utilizing a HUD-VASH voucher and receiving time-limited case management services after placement in permanent housing. After a Veteran is successfully in permanent housing, the GPD CCM case manager provides 6 months of subsequent case management before transferring the Veteran to the local VA HUD-VASH team for ongoing case management services.

○ All applicants proposing to provide services through CCM must demonstrate this within their application. Also:

Current GPD case management grantees who already are approved to provide services through CCM, and who wish to continue participating in CCM during the new award period, must include in the application their Memorandum of Understanding (MOU) that was countersigned by the local VA medical facility director. For these applicants, if they are selected for funding under this NOFO, a signed grant agreement with a start date of October 1, 2023, constitutes approval for continuing CCM in the new award period.

Applicants who are not current GPD case management grantees, or who are not already approved to provide services through CCM, may request written approval from the GPD National Program Office to participate in CCM through the change of scope process after they are selected for a case management grant under this NOFO. A signed case management grant agreement, with a start date of October 1, 2023, does not constitute approval for initiating CCM services. However, GPD will use information provided in the application and through the change of scope process after the case management grant is awarded to provide written approvals for initiating CCM services.

A specific case management practice or model is not required for GPD grants. Applicants must fully articulate within their application any case management model they intend to employ and must demonstrate that the skills, experience and training of the case manager(s) align with the service delivery approach. For example, an applicant that proposes to use the CTI case management model would demonstrate within the application that their case manager(s) will have access to specific CTI training and describe how the CTI model will work for their specific project. Strong fidelity to the CTI model would include the case managers' supervisor having a master's level clinical degree. CTI resources are available online at https://www.va.gov/HOMELESS/nchav/resources/interventions/critical-time-intervention.asp and https://www.criticaltime.org/cti-model/). Examples of other models for case management are available at https://www.va.gov/HOMELESS/nchav/resources/index.asp under Interventions. However, all applicants must offer a Housing First, low barrier, harm reduction approach to providing services to Veterans and must have policies and procedures for maintaining low barriers and high-quality engagement through the provision of case management service. All applicants must demonstrate an ability to maximize the case management resource at all stages of the housing retention process, from referral to housing navigation, through the six months of case management and including post-case management phasing out of services.

Required Minimum Performance Metrics/Targets

VA has established performance metrics and targets for all successful applicants. VA may, at its discretion, update these targets at any point before or during the award period. If any new metrics or targets come into effect, VA will notify grantees in writing.

• Caseload—A full-time equivalent position is expected to manage an average monthly caseload of at least 16 Veterans in permanent housing or in housing navigation.

• Permanent Housing—At least 90% of Veterans engaged in case management services are expected to have retained permanent housing at the time of exit from case management.

E. Authority

Funding applied for under this NOFO is authorized by 38 U.S.C. 2013.

F. Guidance for the Use of Funds

1. Funding applied for under this NOFO may be used to provide case management services. Funding may not be used for capital costs, per diem costs or the cost of operating transitional housing beds or service centers for Veterans.

2. There is a six-month time limit for Veterans to receive case management services (excluding housing navigation). However, VA may approve a request to extend services beyond the six-month period if an organization submits a request to VA in writing and if VA approves it before the six-month time limit expires.

3. Applications do not have to include coverage for the entire VA medical facility catchment area in the application. The coverage area must not exceed the catchment area identified in the application.

4. Case management grant funding may be used for the following purposes:

a. Providing funding for case management staff (for example, salary, fringe benefits, professional development).

b. Training, education, licensing costs for case management staff.

c. Incidental costs related to supervising or mentoring the case management staff (exclusive of supervisor salary costs).

d. Costs for organizational development related to case management (for example, accreditation).

e. Providing transportation for the case manager(s) or the Veterans they are working with to support housing navigation or other related case management activities.

f. Providing case manager(s) with cell phones, headsets, computers, tablets, printers and other incidentals needed to facilitate home visits and other case management activities associated with the grant.

g. Providing case manager(s) or the Veterans they are working with personal protective supplies, such as masks, gloves, hand sanitizer, disinfecting wipes and other incidentals for safety and health.

h. Providing office space and furniture for the use of the case management staff or other necessary supplies, software and utilities.

i. HMIS participation fees and related staffing costs associated with inputting data and monthly reporting (only if not available through other means at no cost to the grant).

j. Limited non-cash incentives of up to $500 per Veteran engaged in case management services are allowed for costs such as furniture, household items, moving costs, disposable phone, groceries, clothing or other items typically associated with independent living in permanent housing. Incentives may not include cash, gift cards or items purchased by the Veteran for reimbursement.

k. Costs for outreach activities directly related to the grant.

l. Indirect costs, as described in 2 CFR 200.412-415, are allowable if supported by a Federally Negotiated Indirect Cost Rate Agreement (NICRA) or if supported by a certification of de minimis indirect cost rate declaring a rate of up to 10% of modified total direct costs as described in 2 CFR 200.414. Otherwise, all requested costs must be direct costs.

5. Applicants should ensure their funding requests are based on a two-year total project period, divided into 1 year annual budget periods. Include good faith estimated costs considering all available information, such as reasonable cost of living increases, established salary scale adjustments and variations in the projected numbers of Veterans per year.

6. Funding restrictions:

a. Costs for temporary financial assistance or rent are not allowed under this grant.

b. Costs for any other salaries, such as supervisor salary costs, are not allowed.

c. Costs for capital improvements or to purchase vans or real property. Vehicles, however, may be leased to facilitate required transportation within the community. Costs for necessary gas, insurance and maintenance are allowable.

7. Funds provided through this NOFO must not duplicate funding provided by any other GPD or VA grants and must not duplicate or replace funds from any Federal, State or local government agency or program to assist homeless persons.

8. VA reserves the right to fund only those projects or portions of projects based on the percentage of use by VA and based on the actual need as determined by VA. Those activities deemed outside the scope of this NOFO will not be funded.

9. Allowable costs are described for all Federal grants in 2 CFR part 200 subpart E—Cost Principles. One factor affecting allowability of costs is that costs must be treated consistently with the grantee's normal written standards.

II. Award Information

A. Allocation of Funds

1. Under this NOFO approximately $15 million per year for 2 years is available for grants to support time-limited case management services to support Veterans in acquiring, reacquiring and maintaining permanent housing.

2. To facilitate geographic dispersion, each applicant, as defined by EIN, may submit no more than one application per VA medical facility catchment area. Additionally, VA will fund up to two case management grants per VA medical facility catchment area, in priority and rank order. Additional selections may be considered, at VA's discretion, if sufficient funding is available.

3. Funding is dependent upon factors such as need, geographic dispersion, funding availability, the recipient meeting the performance goals, statutory and regulatory requirements, as well as the results of VA inspections or audits.

4. Depending on the quantity and quality of applications received and the availability of funding, VA reserves the right to make additional rounds of conditional selections from this NOFO to the eligible pool of applicants. VA also reserves the right to negotiate with applicants, at any point, including prior to award, an upward or downward adjustment to factors including but not limited to FTE positions per catchment area, FTE positions per grant, services, project period dates or dollars amounts including adjustments that exceed the limits stated in this NOFO if needed to accomplish the overall goals and objective.

5. All projects must be able to start serving Veterans as of October 1, 2023. Failure to initiate services to Veterans and to meet the minimum caseload requirements no later than 180 days after the start of the award start date may indicate a failure to comply with the terms and conditions of award. VA may impose specific conditions or remedies for noncompliance, including termination of the grant, at any point during the grant period (2 CFR 200.208, 200.339). Terminations and other performance matters may impact future award decisions (2 CFR 200.206).

B. Funding Priorities

VA has established the following funding priorities.

• Priority 1: VA will place in the first funding priority those applications from operational GPD-funded organizations that have provided a written commitment to give up per diem only or special need funding and convert their transitional housing to permanent housing. Successful priority 1 applicants who received a GPD capital grant that has met the minimum period of operation (refer to 38 CFR 61.67 for the minimum period of operation) will be considered to have complied with all terms of the grant, to include any applicable real property disposition requirements. In order to obtain this priority, organizations must provide documentation showing that their permanent housing meets the housing quality standards established under section 42 U.S.C. 1437f(o)(8)(B). Applicants wishing to be considered under funding priority 1 must submit with their application a signed letter on agency letterhead noting that, if selected for funding, the agency withdraws from their currently operational GPD project and understands that they will be held to normal closeout and post-closeout requirements (see 2 CFR 200.344-345). This letter of commitment must be provided as an attachment to the case management grant application. See External Attachments section of the NOFO. Applications will be ranked in score order within the funding priority.

• Priority 2: VA will place in the second funding priority those applications from organizations that demonstrate a capability to provide case management services, particularly organizations that are successfully providing GPD transitional housing services using per diem only or special need funding. Applications will be ranked in score order within the funding priority. These applicants do not have to submit a written commitment to give up per diem only or special need funding and convert their transitional housing to permanent housing.

• Priority 3: VA will place in the third funding priority those applications from other organizations without GPD transitional housing grant experience that seek to provide time limited case management to Veterans to support their acquiring, reacquiring and maintaining permanent housing.

Applications will be ranked in score order within the funding priority.

C. Award Period

VA anticipates that the grants will be for a period of up to two years starting in FY 2024 on October 1, 2023 and ending September 30, 2025.

III. Eligibility Information

A. Eligibility

Any eligible entity may apply for funding. Current GPD grantee organizations are eligible to apply. Applicants are not required to be a current GPD grantee. An application is eligible for consideration if it is complete, if it meets all the requirements stated in the NOFO and is submitted by the date and time on the NOFO from an eligible entity for eligible activities.

1. Eligible entity:

a. An entity is eligible to apply if it is a 501(c)(3) or 501(c)(19) nonprofit organization, State, local or Tribal government. For purposes of this program, the term “Tribal government” means an entity described in paragraph (2) of the definition of “public entity” in 38 CFR 61.1.

b. An entity that is religious or faith-based is eligible, on the same basis as any other organization to participate. Faith-based organizations should refer to 38 CFR 61.64(b)-(g) for grant compliance requirements.

c. Eligible entities may submit up to one application per EIN, per VA medical center catchment area.

d. Successful applicants must maintain their status as 501(c)(3) or 501(c)(19) nonprofit organization, State, local or Tribal government.

e. Eligible entities must have an active registration in the System for Award Management (SAM) and must maintain their active status throughout the grant award period.

2. Eligible activities:

a. Projects that propose to support case management services to assist Veterans in obtaining and retaining permanent housing are eligible. See Definitions section, GPD Case Management section and Guidance for the Use of Funds section of this NOFO for details about case management and services.

b. Each application must propose at least 0.5 FTE position (at least 20 hours on average per week). This NOFO does not establish a maximum number of hours. Applicants must propose the number of hours based on the number of Veterans estimated to be served, considering the minimum caseload requirements established in the NOFO.

c. Each applicant must propose a two-year project period.

Applicants must not be out of compliance with any reporting requirements or other requirements under any other GPD grant (for example, outstanding SF-425 Federal Financial Report or outstanding closeout requirements). Pursuant to 2 CFR 200.344(i), VA will publicly report to the Federal Award and Performance Integrity and Information System (FAPIIS) any organization whose reporting is not complete within one year from the grant end date. GPD may decide not to provide a grant under this NOFO to an organization who is out of compliance with requirements under other VA or GPD grants.

Refer to the Award Information section for funding priorities.

B. Cost Sharing or Matching

None.

IV. Application and Scoring Information

A. Content and Form of Application

The numbered questions below make up the Case Management application that all applicants must complete. VA is seeking to focus resources to assist Veterans with obtaining and retaining permanent housing. Applicants must include all required documents in their application submission. Submission of an incorrect, incomplete, inconsistent, unclear or incorrectly formatted application package may result in the application being rejected.

VA may make a reasonable effort to confirm or clarify information in the application. VA reserves the right to consider ineligible or to not select any application with inconsistent information or information that cannot be readily confirmed or that leads to an unclear understanding of the proposed project.

This NOFO cannot predict all potential circumstances. Applicants are expected to propose plans within the requirements and guidance of the NOFO. When a specific situation is not explicitly addressed in the NOFO, applicants must use their judgment to propose plans that meet the intent of the NOFO and may explain how their choices align with the intent. All applications will be evaluated against the requirements and guidance in the NOFO.

Organization Profile (Eligibility)

1. Unique Entity Identifier (UEI).

2. Employer Identification Number (EIN).

3. Organization Name.

4. Organization Address (including city, state, postal code and congressional district).

5. Indirect Cost Rate (percentage) and upload a copy of your agency's NICRA that supports this rate or upload a copy of your agency's certification of de minimis indirect cost rate. Note: Applicants not requesting indirect costs as described in 2 CFR 200.414 are not required to upload anything here.

6. System for Award Management (SAM) expiration date. Note: Applicants are required to be registered in SAM before submitting an application and must maintain an active SAM registration with current information at all times during which they have an active Federal award or an application under consideration by a Federal awarding agency. Refer to the Funding Actions section of the NOFO and 2 CFR part 25 for more details.

Overview

7. Identify the funding priority for which this application is being submitted (select one).

8. Amount requested (must match what is provided in the Budget table section):

a. Year 1 total amount.

b. Year 2 total amount.

c. Combined 2-year total amount (i.e., 8a + 8b = 8c).

9. Station number of the VA medical facility whose catchment area includes the proposed area to be served in this application (select one).

10. Veterans Integrated Services Network (select one)

11. Continuum of Care (CoC) (select all that apply).

Application

12. Total number of hours per week grantee will provide services under the GPD case management grant (one FTE = 40 labor hours per week; minimum amount per application = 20 hours per week).

13. Number of case management staff members proposed to fill the hours requested above.

14. Average number of Veterans to be served per FTE case manager position per month (must be 16 or more Veterans).

15. Total number of Veterans to be served per FTE case manager position annually.

16. Site address(es), city, state, zip code + four-digit extension, county, congressional district (the location of the case manager(s) office and where project records will be retained).

Abstract

17. In approximately 500 words, provide a brief abstract introducing and summarizing the proposed project. Abstracts may elaborate on information provided elsewhere and may provide necessary context about the intent and impact of the project. As applicable, include a discussion of multiple positions, multiple CoCs and other information relevant to an understanding of the overall project.

Detailed Application Design

This is the portion of the application that describes the proposed project. VA reviewers will score the application based on how the detailed application design addresses the areas of need, project plan, ability and coordination in relation to assisting Veterans to obtain and retain permanent housing. VA expects successful applicants to propose high quality staff who will provide a milieu of services for Veterans. These sections are in compliance with 38 CFR part 61.

Reviewers will give consideration to how the application demonstrates plans to maximize the case management resource. All scores, including need and coordination scores, may be impacted by this consideration. For example, applications that propose to participate in CCM or that otherwise show access to a reliable referral stream of potential Veteran participants, will be considered more responsive to this NOFO than applications that do not demonstrate access to a reliable referral stream.

Need (See 38 CFR 61.92(e))

When providing information to support the need for case management services, keep in mind that case management services may not be duplicative of the services provided under other programs but may work in collaboration.

18. Need 1—In approximately 500 words, discuss the overall need for this grant in your community. Responses must include community level data and discussion that supports your assertions regarding need.

19. Need 2—In approximately 500 words, discuss how many eligible Veterans your organization commits to serving. Include:

a. Explain how you determined the average number of Veterans to be served per FTE case manager position per month and the total number of Veterans to be served per FTE case manager position annually, as stated in the Application section. (See GPD Case Management section for minimum average monthly caseload expectations.)

b. Current GPD case management grantees must discuss the average number of Veterans served per case manager under their current award and the total number of Veterans served from October 1, 2021, through September 30, 2022. Explain how this past experience informed the current declared need for this proposed new grant.

Project Plan (See 38 CFR 61.92(c))

20. Project Plan 1—In approximately 500 words describe the outreach, referral and acceptance process for case management services. Responses must include all of the following:

a. Strategies your agency will employ to outreach to local community providers (for example, HCHV, GPD) to engage Veterans in services.

b. Your organization's involvement with the local coordinated entry system and how this project fits into the system.

c. The minimum frequency and method of contact (home visit, video, phone, etc.) each Veteran will have with their case manager. (See GPD Case Management section for minimum average monthly caseload expectations.)

21. Project Plan 2—In approximately 250 words, describe the policies, procedures, admission criteria and strategies your organization employs to ensure equity and nondiscrimination. VA is committed to advancing equity and support for underserved and underrepresented communities. VA requires all projects to be nondiscriminatory and expects grantees to include strategies for nondiscrimination of any individuals based on factors including but not limited to race, color, religion, sex, gender identity, gender expression, sex characteristics, sexual orientation, pregnancy, national origin, disability, age, genetic information, marital status, parental status or political affiliation.

22. Project Plan 3—In approximately 750 words, describe your plans for how, when, and by whom the progress of participants who are receiving case management services toward meeting their individual goals will be monitored, evaluated and documented. Responses would include the following:

a. Descriptions of the specific case management services that will be provided to Veterans, such as housing navigation, landlord engagement, home visits and financial management, and how these supports will be individualized to assist Veterans in acquiring, reacquiring and retaining housing.

b. A discussion of the case management model or approach your agency will employ to facilitate successful retention of housing. (Refer to the GPD Case Management section of the NOFO.)

c. How education will be provided to Veterans, as needed, in areas including but not limited to tenant rights and responsibilities, rental and lease agreements, landlord's rights and responsibilities, natural supports and budgeting.

d. How Veterans will receive support in areas including but not limited to increasing income, accessing benefits and gaining or retaining employment. GPD encourages applicants to demonstrate an awareness of and commitment to using the SSI/SSDI SOAR program.

e. How crisis intervention services will be used, as needed, to promote the maintenance of permanent housing, access to medical care, mental health or substance use disorder treatment.

23. Project Plan 4—For applicants not proposing to participate in HUD-VASH CCM, this question is not applicable and applicants should enter “N/A.” For applicants proposing to participate in HUD-VASH CCM, in approximately 500 words, describe all of the following:

a. How your organization will receive referrals to serve Veterans appropriate to this collaboration.

b. How your organization will ensure ongoing collaboration with the local VA medical center partners.

c. Your organization's experience with housing searches.

d. How Veterans will be assessed for acuity and appropriateness for this collaboration.

24. Project Plan 5—In approximately 500 words, describe your plans that will result in accomplishing the proposed case management grant project. Responses must include all of the following:

a. How your organization will incentivize Veteran engagement.

b. How Veterans will be periodically assessed to determine the need for reduced or increased case management services.

c. How case management for each Veteran will be phased out over time prior to termination of services. Reminder that according to 38 CFR 61.90(c), case management services are expected to be for up to six months. Case-by-case extensions may be available if VA receives and approves a written request for additional time before the six-month time limit expires.

d. How your organization will incentivize recruitment and retention of skilled case managers, for example through competitive salaries or professional development.

25. Project Plan 6—In approximately 250 words, if your agency plans to use any subrecipient(s) or contractor(s) for providing any of the project the plan services discussed in this section, describe the responsibilities of the subrecipient(s) or contractor(s). For each subrecipient or contractor, include the name, EIN, UEI and activity to be completed. Information provided here must align with that which is provided in the Budget section. For applicants not proposing to use subrecipients or contractors, this question is not applicable, and applicants should enter “N/A.”

Ability (See 38 CFR 61.92(d))

26. Ability 1—In approximately 500 words, describe your agency's past performance with VA and non-VA projects. Responses must include (as applicable):

a. Current GPD case management grantees must discuss their performance under their case management award from October 1, 2021, through September 30, 2022. Include how many Veterans were served, the average length of time case management services were provided, percentage of permanent housing retention or other performance results.

b. All applicants must discuss any current and past projects pertaining to the activities proposed in this application, including VA, non-VA, Federal, state, local and private grants or contracts and how this experience demonstrates your agency's ability to successfully execute the proposed project.

c. Include an explanation of any corrective action plans or performance improvement activities your agency has undertaken and the outcome(s).

d. Any accreditations your organization has related to case management.

27. Ability 2—Complete the staffing plan table section of the application for this project (see Example 1). Successful applicants will be allowed to exceed the minimum standards during the grant period without the need for written prior approval from the GPD National Program Office, but they will not be allowed to reduce the standards. Position descriptions for up to two key positions may be attached. Do not include resumes.

Example 1:

Job title (do not name specific names) (agency, contractors, sub-contractors) | Brief (1-2 sentence) description of responsibilities | Minimum required educational level | Hours per week allocated to the GPD project (40 hours equals full-time) | Number of FTE | Amount of annual salary allocated to the GPD project per year | Amount of salary, per job title, for the full-time equivalent position(s) per year
Case manager | Responsible for working with the Veteran to develop and monitor an individual service plan and to adjust the plan as needed. Coordinates support with other community agencies | Bachelor's degree | 60 | 1.5 | $90,000 | $60,000

28. Ability 3—In approximately 250 words, describe your agency's ability to operationalize this project by October 1, 2023, in order to begin enrolling Veterans as quickly as possible. Responses must include:

a. A discussion of the start-up activities, the timing involved and when the project will be fully operational.

b. An explanation of how your agency has already secured, or will secure, the staffing and other resources needed for the proposed services. Applicants should demonstrate an ability to maximize the case management resources efficiently.

c. Your organization's experience working with landlords.

29. Ability 4—In approximately 750 words, provide information about the proposed case management position(s). Be sure to describe only the minimum standards that will be used for the position(s). Successful applicants will be allowed to exceed the minimum standards during the grant period, but they will not be allowed to reduce the standards. Responses must include all of the following:

a. The minimum education, training, skills and prior experience requirements. If identifying specific licenses or degrees required for the position(s), list all acceptable credentials. (See Funding Opportunity Description section for minimum requirements.

b. The resources that will be provided to the case manager(s) to facilitate engagement with Veterans, such as vehicle, cell phone, computer, or office space.

c. How the position(s) or hours will be adjusted if caseloads are less than the minimum cited in the project plan section of the application to ensure that caseloads return to average levels as soon as possible and to maximize the position(s) or hours for allowable activities during periods when caseloads are less than full.

d. The professional development that will be available to the case manager(s), including but not limited to training, licensing, supervision or mentoring.

e. How the case manager's knowledge and skills will be strengthened through staff training and development, including but not limited to suicide prevention, equity and inclusion.

f. How staff performance will be measured, reviewed and improved.

Coordination (See 38 CFR 61.92(g))

30. Coordination 1—In approximately 500 words, describe how your agency, prior to submitting the application, coordinated directly with relevant partners about the proposed project. Responses must include:

a. A description of coordination efforts with the VA medical facility Director (or the appropriate authorized representative per the local practice), with local SSVF and HUD-VASH grantees, with the local CoC and with HCHV and GPD providers in the community who would potentially be referring Veterans for case management services. Clearly identify the points of coordination and discuss the outcome of past coordination efforts.

b. How medical care, mental health and substance use care for Veterans will be coordinated with external partners as needed.

c. If proposing a HUD-VASH GPD CCM partnership, include how CCM has been or will be coordinated with the local VA medical facility HUD-VASH team and with medical center leadership. Describe ongoing meetings and communication plans that will ensure coordination between VA and your organization. Current GPD case management grantees who already are approved to provide services through CCM must include in the application their MOU, countersigned by the local VA medical facility, if they wish to continue participating in CCM during the new award period. Other applicants who are proposing CCM may attach a letter of coordination to demonstrate discussions prior to applying and if selected for a grant, full documentation will be required as part of the change of scope process prior to being approved for CCM participation. (CCM information is available on the GPD provider website at https://www.va.gov/HOMELESS/GPD_Providerwebsite.asp.)

Letters of coordination from the VA medical facility, CoC or other partners are not required but may be provided and may help substantiate information included in the application (see the External Attachments section at the end of the application). Applicants are strongly encouraged to allow as much time as possible, but no less than 30 days, for letters of coordination. All application materials must be submitted together in a single package by the due date and time indicated in this NOFO. Any materials arriving separately or late will not be accepted as part of the application.

Note: VA reserves the right to confirm with local VA medical facility staff or others any information related to an application. If information cannot be confirmed or if discrepancies are identified, VA reserves the right to adjust award decisions, to not select the application, to consider other application(s) in rank order or to make other remedies as appropriate.

Budget

In addition to the part of the application that is scored (the Detailed Application Design section), this part of the application (Budget) is not scored but is required for an application to be considered complete. Information provided may impact award decisions, for example award amounts or specific conditions of award. Applications that are not complete may be rejected at threshold and not be considered for award.

31. Budget Table—Applicants must complete the itemized detailed budget table section of the application.

Example 2:

| Year 1 | Year 2 | Total | Notes
Salary
Fringe Benefits
Transportation
Phone, Computer, and misc IT
Office Space
HMIS
Veteran Incentives (see limit)
Other
Indirect costs
TOTAL

Budget Narrative—In approximately 250 words, describe how you calculated the costs of services and staffing proposed in the application. The Budget Narrative must thoroughly and clearly describe every category of expense listed in the Budget Table. The narrative must be mathematically sound and correspond with the information and figures provided in the Budget Table and in the Application for Federal Assistance (SF-424). The narrative must explain how all costs are estimated and calculated and how they are relevant to the completion of the proposed project. As with the Budget Table, the Budget Narrative must be broken down by year. If applicable, identify the amount(s) and source(s) of other funding (aside from the funding requested in this application) that would be used to support project costs. Explain how other funding, if any, impacted the cost calculations for the activities proposed in this application. The narrative must demonstrate an understanding of and compliance with the guidelines in the NOFO, 38 CFR part 61, Federal cost principles (2 CFR part 200 subpart E) and other applicable funding requirements.

a. If an applicant plans to provide pass-through funding to a subrecipient or to a contractor, the applicant must discuss cost calculations, including indirect costs, for each subrecipient or contractor. Applicants must comply with Subrecipient Monitoring and Management requirements in 2 CFR 200.331-333. Information provided here must align with that which is provided in the Project Plan section.

b. See the Guidance for the Use of Funds section for details about indirect costs. Information provided here must align with that which is provided in the Organization Profile section.

32. Assessment of Management Systems—In approximately 150 words, and as authorized under 2 CFR 200.206(b), provide a description of your organization's financial stability, the quality of management systems, your ability to meet the management standards described in 2 CFR 200.300-309 and 38 CFR 61.66 and your ability to effectively implement statutory, regulatory or other requirements imposed on non-Federal entities. Applicants who have received training on Federal grants management practices or who have registered for such training to happen in the near future may include the dates, titles and providers of the training.

Organization Leadership

33. Complete the organization leadership table. At minimum, this table must include the positions with the following titles or equivalent titles: Executive Director, Chief Financial Officer and Project Manager. The table also must include a complete list of the current Board of Directors. For each position, include name, title, phone number and email address. See also Conflicts of Interest section.

Example 3:

Name | Title | Phone number | Email address
Thi Nguyen | Executive Director | 111-222-3333 | email@address.org.
Anisa Osman | Chief Financial Officer | 111-222-3333 | email@address.org.
Marco Aguilar | Project Officer | 111-222-3333 | email@address.org.
Angel Banmeke | Chair, Board of Directors | 111-222-3333 | email@address.org.
Lei Yang | Treasurer, Board of Directors | 111-222-3333 | email@address.org.

External Attachments

When submitting an attachment in spreadsheet or table format, applicants are encouraged to convert to portable document format (PDF) prior to submission.Applicants who submit materials in PDF are encouraged to submit a native PDF (a machine-readable PDF, not an image only or a scanned PDF), if possible.

34. Applicants may provide required and optional materials as attachments, including:

a. SF-424. (required)

b. Letter(s) of coordination. (optional)

c. Position descriptions for up to two key positions may be attached. Do not include resumes. (optional)

d. Priority 1 letter. (required for those applying under priority 1)

e. CCM MOU. (required for CCM applicants who are current GPD grantees already approved for CCM)

f. Other. (optional)

Standard Form (SF)

Provide as an attachment the Office of Management and Budget (OMB) SF-424. The SF-424 must be signed by a person at the applicant organization who is authorized to make legal commitments on behalf of the organization. The signature on the SF-424 must be digital or must be a wet-ink signature. A blank signature field or a “signature” that is manually typed will not be accepted. VA reserves the right to communicate with an applicant, as needed, prior to making threshold decisions. A signature on the SF-424 indicates the applicant agrees to comply with all SF-424B Non-Construction Assurances and terms and conditions of award. Applicants do not need to submit the SF-424B with the application. Instead, the applicant agrees to the assurances by maintaining an active registration in SAM. Applicants must submit proof of SAM registration upon submission of their application and, if awarded the grant, applicants should maintain an active SAM account for the duration of the grant period as a continuing condition of eligibility. For awareness, however, applicants may refer to the GPD website for a list of assurances and for a sample standard terms and conditions of award.

Certifications

35. By signing and submitting this application for Federal assistance, I agree to the following:

a. The applicant commits to engaging in the local coordinated entry process and the by-name list, as appropriate.

b. The applicant commits to using HMIS to document GPD grant services.

c. The applicant commits to having written standard operating procedures on conflicts of interest (see Conflicts of Interest section).

d. The applicant commits to ensuring staff supported by grant funds are trained annually regarding suicide prevention and commits to having written standard operating procedures on suicide prevention developed in consultation with the local VA medical center.

e. The applicant commits to ensuring staff supported by grant funds are trained annually regarding equity and inclusion and commits to having written standard operating procedures on nondiscrimination of any individuals based on factors including but not limited to race, color, religion, sex, gender identity, gender expression, sex characteristics, sexual orientation, pregnancy, national origin, disability, age, genetic information, marital status, parental status or political affiliation.

f. The applicant organization commits to complying with all applicable requirements for the grant including but not limited to 38 CFR part 61, 2 CFR part 200, Federal cost principles, terms and conditions of award, requirements in the NOFO, performance measures and reporting requirements.

g. The applicant does not have any past due SF-425 Federal Financial Report (FFR) or any other outstanding requirement under any GPD grant.

B. Scoring

Applications will be scored according to the number of points available for each section as stated in 38 CFR 61.92.

V. Review and Selection Process

A. Application Review

An applicant must meet the initial threshold review requirements of 38 CFR 61.92(a). Applications must be submitted on time, in the correct format, be complete, from an eligible entity and for eligible activities. Not meeting these criteria may result in the application being rejected at threshold and not being considered for award.

Applications that meet threshold will be scored. VA may use historical program documents of past performance, both VA and non-VA, including those from other Federal, State and local agencies as well as audits by private or public entities in determining scores. Applications will be ranked in score order by funding priority as described in 38 CFR 61.94. Applications in priority 1 that receive the minimum score to be eligible for selection will be considered in score order before applications in priority 2 are considered, etc. VA will select up to two case management grants per VA medical facility catchment area, in priority and rank order. Additional selections may be considered, at VA's discretion, until available funding is exhausted. If VA determines that an application was received under the wrong priority, VA reserves the right to consider the application ineligible. VA also reserves the right to consider such application under the correct priority, or under priority three, if the application otherwise meets the threshold criteria.

Reviewers will give consideration to how the application demonstrates plans to maximize the case management resource.

B. Application Selection

The rating and selection process may be found at 38 CFR 61.92-94. In case of a discrepancy between information provided by the applicant and other information available to VA, VA reserves the right to make funding decisions based on all available information or to not select an application as described earlier.

Depending on factors such as the quantity and quality of applications received and the availability of funding, VA reserves the right to make additional rounds of conditional selections from this NOFO to the eligible pool of applicants, to reduce the number of hours awarded or to take other actions as appropriate. VA reserves the right to negotiate with applicants as needed to accomplish the overall goals and objective. Consistent with 2 CFR 200.206(b), VA evaluates risk posed by applicants at any time pre-award or post-award. Special conditions, adjustments or remedies corresponding to the degree of risk may be applied to an award (2 CFR 200.206, 200.208, 200.339). Risk evaluations may include but are not limited to an evaluation of the applicant's eligibility, the quality of its application, the needs of the community, the organization's financial stability, management systems and standards, the history of performance, the status of Single Audit reports, an ability to effectively implement requirements, the status of any VA or other Federal debt and the findings of any VA fiscal reviews.

Tie Score

In the event of a tie score between applications, VA will determine at its discretion how to handle selection decisions (for example, selecting multiple applications for award, awarding for less than requested, or reducing hours). VA will consider the intent of this NOFO to fund case managers to assist vulnerable Veterans in retaining their permanent housing. VA's discretionary funding decisions are final.

Funding Actions

VA will provide funding to all eligible applicants in score order as described in this NOFO until eligible applications or funding is exhausted. Funding is not guaranteed. Conditionally selected applicants may be asked to submit additional information. Applicants will be notified of the deadline to submit such information. If an applicant is unable to meet any conditions for the grant award within the specified time, VA may non-select the applicant and may use the funding for another applicant(s). VA may negotiate arrangements with conditionally selected applicants and will incorporate any changes into the grant agreement. Prior to awarding a grant agreement, VA reserves the right to make upward or downward adjustments to factors including but not limited to hours, FTE positions, services, project period dates or dollars amounts, including adjustments that exceed the limits of the NOFO, as needed within the intent of this NOFO. Adjustments may be based on a variety of factors including the quantity and quality of applications, the needs of the community, geographic dispersion, as well as the availability of funding.

VA will consider any information that comes to its attention, including information in the designated integrity and performance system, in making a judgment about the applicant's integrity, business ethics and performance under Federal awards. VA may not make a Federal award to an applicant if the applicant has not complied with all applicable UEI and SAM requirements. Applicants may refer to 2 CFR part 200, 2 CFR part 25 and www.sam.gov for more information.

If an applicant has not fully complied by the time the Federal awarding agency is ready to make a Federal award, the Federal awarding agency may determine that the applicant is not qualified to receive a Federal award and may use that determination as a basis for making an award to another applicant. VA may elect to negotiate an increase to another conditionally selected applicant(s), to award additional applications, to publish another funding opportunity or to take other actions based on factors such as the availability of funds and quality of applications. Signature of the grant agreement by the Secretary, or designated representative, indicates final selection is completed and the grant funds will be obligated for the funding period.

VI. Award Administration Information

A. Award Notice

Although subject to change, the GPD National Program Office expects to announce grant awards around the fourth quarter of FY 2023 (July-September 2023). The initial announcement will be made through a news release which will be posted on the GPD program website at www.va.gov/homeless/gpd.asp. VA anticipates that the grants will be for a period of two years. Continuation funding is not guaranteed. VA reserves the right in any year to make adjustments to funding levels, services, performance targets, dates or otherwise as needed within the intent of the NOFO based on a variety of factors including availability of funding and performance.

GPD will notify both successful and unsuccessful applicants. Only a grant agreement with a VA signature is evidence of an award and is an authorizing document allowing costs to be incurred against the grant award. Other notices, letters or announcements are not authorizing documents. Applicants may incur eligible project costs up to 90 calendar days before the start of the award without written prior approval (2 CFR 200.308(e)(1)). Any costs incurred before VA makes the award are at the applicant's risk. VA is not required to reimburse such costs if for any reason the applicant does not receive a Federal award, if the costs are determined to be unallowable or if the Federal award is less than anticipated or inadequate to cover such costs (see also 2 CFR 200.458).

The grant agreement includes terms and conditions of award. Sample terms and conditions are available on the GPD website at https://www.va.gov/homeless/gpd.asp, including requirements such as prohibition on covered telecommunications and video surveillance services or equipment (2 CFR 200.216), debarment and suspension (2 CFR part 180), as well as integrity and performance reporting (2 CFR part 200 appendix XII).

The applicant's signature on the SF-424, including electronic signature, constitutes a binding offer by the applicant and constitutes agreement to the terms and conditions. VA may elect to award funds with or without discussions with the applicant. Applicants may review GPD's general terms and conditions of award at any time on the GPD website at https://www.va.gov/homeless/gpd.asp.

VA may obligate funding for the entire grant period at the time of award or may provide funding in annual increments. Conditionally selected applicants will be informed by way of the grant agreement. Monthly reimbursements will be issued to grantees based on costs incurred. Awards under this NOFO are dependent on funding availability and program authorization. Future years may be impacted by factors such as carry forward amounts, performance, caseloads, risk assessment or organizational financial stability and management standards. At any time during the grant, VA reserves the right to make upward or downward adjustments to factors including but not limited to FTE positions, services, project period dates or dollar amounts including adjustments that exceed the limits stated in this NOFO as appropriate to accomplish the overall goals and objective.

B. Administrative and National Policy

VA places great emphasis on responsibility and accountability. VA has procedures in place to monitor grants provided under this NOFO. Federal funding must be expended, and grant projects must be implemented, in full accordance with the U.S. Constitution, Federal law and public policy requirements, including, but not limited to, those protecting free speech, religious liberty, public welfare, the environment and prohibiting discrimination (2 CFR 200.300(a)).

Grantees are responsible for complying with all requirements of the Federal award. For all Federal awards this includes the provisions of the Federal Funding Accountability and Transparency Act, which includes requirements on executive compensation, and other requirements found at 2 CFR parts 25 and 170. Grantees and their employees also are subject to the whistleblower rights and remedies established in 41 U.S.C. 4712.

Conflicts of Interest

Consistent with 2 CFR 200.112, grantees must disclose in writing any potential conflict of interest to the Federal awarding agency or pass-through entity immediately and no less frequently than annually thereafter.

The conflict-of-interest guidance for general procurement standards (2 CFR 200.318) will be applied to other grant actions beyond procurement actions. Specifically, grantees must maintain written standards of conduct covering conflicts of interest and governing the actions of its employees or other personnel engaged in activities funded from the GPD grant, such as the selection, award and administration of a contract supported by a Federal grant, if they have a real or apparent conflict of interest. Such a conflict of interest would arise when the employee, officer, agent, any member of the immediate family, a partner or an organization which employs or is about to employ any of the parties indicated herein, has a financial or other interest in or a tangible personal benefit from a firm considered for a contract. The officers, employees and agents of the grantee organization may neither solicit nor accept gratuities, favors or anything of monetary value from contractors or parties to subcontracts. However, grantees may set standards for situations in which the financial interest is not substantial, or the gift is an unsolicited item of nominal value. The standards of conduct must provide for disciplinary actions to be applied for violations of such standards.

Suicide Prevention

Grantees must ensure staff supported by grant funds are trained annually regarding suicide prevention and how to address situations in which Veterans demonstrate suicidal ideation. Standard operating procedures are to be developed on suicide prevention in consultation with your local VA medical facility. VA training is available at https://www.va.gov/EMPLOYEEEDUCATION/ees_vha_train.asp. Suicide Prevention Coordinator (for in-person training) locator is available at https://www.veteranscrisisline.net/get-help/local-resources.

Equity and Inclusion

Grantees must ensure staff supported by grant funds are trained annually regarding equity and inclusion. Standard operating procedures are to be developed on nondiscrimination of any individuals based on factors including but not limited to race, color, religion, sex, gender identity, gender expression, sex characteristics, sexual orientation, pregnancy, national origin, disability, age, genetic information, marital status, parental status or political affiliation. VA training is available at https://www.va.gov/EMPLOYEEEDUCATION/ees_vha_train.asp.

C. Payment

1. Under this NOFO, VA will make payments in a method consistent with VA policy and other Federal fiscal requirements. Payments are only for allowable costs, as specified under OMB cost principles for grants, for the activities outlined in this NOFO. All payment specifics will be given to the grantee at the time of award. Grantees are subject to requirements of this NOFO, 2 CFR part 200, 38 CFR part 61 and other Federal grant requirements. A full copy of the regulations governing the GPD program is available at the GPD website at www.va.gov/homeless/gpd.asp. Grantees are required to maintain internal records supporting their request for payments with adequate fiscal documentation, including caseload, program income and expenses. GPD reserves the right to review grantee's documentation as needed.

2. Grantees will receive payments electronically through the U.S. Department of Health and Human Services (HHS) Payment Management System. Grantees will have the ability to request payments as frequently as they choose subject to the following limitations:

a. During the first quarter of each annual budget period, the grantee's cumulative requests for funds may not exceed 35% of the annual grant award amount without written prior approval by VA.

b. By the end of the second quarter of each annual budget period, the grantee's cumulative requests for funds may not exceed 60% of the annual grant award amount without written prior approval by VA.

c. By the end of the third quarter of each annual budget period, the grantee's cumulative requests for funds may not exceed 80% of the annual grant award amount without written prior approval by VA.

d. By the end of the fourth quarter of each annual budget period, the grantee's cumulative requests for funds may not exceed 100% of the annual grant award.

3. If applicable, grantees with unobligated balances may, with approval from the GPD National Program Office, carry forward such unobligated balances. If applicable, at VA's discretion, a future budget period amount may be subject to reductions. Reductions are permanent and not restorable. Reductions will be calculated based on the amount of the unobligated balance shown in the HHS Payment Management System by the third quarter of each year. VA may calculate reductions with or without input from grantees. Grantees are advised to stay current with reimbursements from the payment system in order to avoid the appearance of inaccurately high unobligated balances.

4. VA will make payments to reimburse amounts expended (38 CFR 61.61(b)). Advance payments are not provided to GPD grantees. Grantees must maintain written procedures to minimize the time elapsing between drawing down funds from the Federal government and disbursing the funds for grant costs. Also, grantees must maintain financial management systems that meet the standards for fund control and accountability as established in 2 CFR 200.305. Payments drawn must be limited to the minimum amounts needed and be timed in accordance with actual and immediate cash requirements of the grantee in carrying out the purpose of the approved project. The timing and amount of payments must be as close as is administratively feasible to the actual disbursements by the grantee for direct project costs and the proportionate share of any allowable indirect costs. Typically, “immediate” means within three business days, as articulated by HHS: https://pms.psc.gov/grant-recipients/funding-request-formula.html.

5. Per-item cost documentation:

a. At any time, including prior to payment, VA reserves the right to request documentation for any item of cost.

b. Grantees are advised to keep careful records, including documentation of cost calculations, such as itemized invoices, and of cost reasonableness.

c. Grantees are advised to keep documentation of having secured any voluntary leveraged funding from other sources if applicable.

D. Program Evaluation

1. Grantees will participate in VA's national project monitoring and evaluation to determine successful outcomes. Each grantee's performance will be measured against established performance targets. For the targets associated with each metric, refer to the Required Minimum Performance Targets/Metrics section of the NOFO.

2. Grantees that do not meet the performance measures or who otherwise perform or appear to perform less than satisfactorily (for example, as a result of a risk assessment or due to information regarding the organization's financial stability or management standards) may be subject to additional conditions of award. Additional conditions may include but are not limited to increased reporting or monitoring, reductions, withholding, suspension, termination or other remedies for non-compliance at VA's discretion.

3. VA reserves the right to add, remove or change, at any time prior to or during the award period the performance measures, targets, number of FTE positions, hours, services, caseload requirements, grant payment amounts, payment schedule or other grant requirements.

4. VA's overall performance for all grants funded from this NOFO will be measured against the same criteria and targets used for each grant.

E. Monitoring and Reporting

1. Monitoring

a. Grantees will work with a GPD liaison from a nearby VA medical facility who will provide oversight and monitoring.

b. The maximum length of time the Veteran is expected to be in the project is 6 months (excluding housing navigation). Grantees will consult with the liaison prior to the end of the 6-month period if considering an extension in exceptional cases. The liaison may consider approving extensions of up to six additional months at a time.

c. Grantees may not make significant changes to a project after a grant is awarded without prior approval from the GPD National Program Office.

d. Grantees may request prior written approval from GPD to participate in the CCM collaboration during the grant project period. Interested grantees must submit a change of scope request. (CCM information is available on the GPD provider website at https://www.va.gov/HOMELESS/GPD_ProviderWebsite.asp.) Grantees who were already approved for CCM under a previous GPD case management grant, and who demonstrated an intent to continue CCM in the FY 2024 application, do not need to request written prior approval through the change of scope process. Other grantees who proposed CCM participation in the FY 2024 application or who wish to propose participation after award, must receive prior written approval from the GPD National Program Office.

e. VA reserves the right to disallow costs for services provided by the grantee if VA determines that they are of unacceptable quality in which case grant funds may not be used to pay for them.

f. Grantees are responsible for monitoring and managing their subrecipients if applicable (2 CFR 200.331-333).

g. All grantees are subject to fiscal reviews and audits conducted by VA or its representative.

h. Monitoring may include a review of the agency's income and expenses as they relate to this project to ensure payment is accurate and to ensure compliance with program requirements.

2. Reporting

a. Performance reporting:

i. Monthly HMIS reports: Grantees will enter data into HMIS, such as information on participants served, types of services provided and participant outcomes. Client-level data for activities funded under this grant must be exported and provided to VA monthly.

ii. Quarterly reviews: Quarterly reviews will be conducted by VA of each grantee. At minimum, grantees will provide information on their performance and their progress helping Veterans maintain housing stability, adequate income support and self-sufficiency as identified in the application. Grantees also may be required to provide information on financial and management activities to ensure compliance with Federal and VA requirements. The grantee will be expected to demonstrate adherence to the proposed project concept, as described in the application, as well as requirements defined by the regulations and this NOFO.

b. Financial reporting:

i. Quarterly GPD Case Management Requirement: The quarterly requirement is a financial report that is required to be submitted 30 days after the end of each FY quarter via the online electronic grants management system (eGMS). Instructions are on the GPD provider website at https://www.va.gov/HOMELESS/GPD_ProviderWebsite.asp.

ii. Annual SF-425 FFR: An annual FFR is required to be submitted no later than 120 days of the end of each grant year (no later than January 31). Grantees who do not submit on time are subject to being withheld from receiving payments temporarily pending receipt of the report. An FFR form is available on the GPD provider website at https://www.va.gov/HOMELESS/GPD_ProviderWebsite.asp or on www.grants.gov. Instructions for submission also are on the GPD provider website.

c. Option year reporting: For any multi-year grants funded in annual increments, grantees will be given instructions about any annual reporting requirements prior to each option year. Annual reporting may include, but is not limited to:

i. A list of your organization's leadership, such as Board of Directors and Executive Officers, is updated in eGMS annually.

ii. An updated NICRA or de minimis certification is attached in eGMS annually (if needed).

iii. Your organization's SAM.gov registration is updated annually.

iv. Any conflicts of Interest are disclosed to GPD annually.

v. Training for staff regarding suicide prevention is provided annually.

vi. Training for staff regarding equity and inclusion is provided annually.

vii. Any required SF-425 FFRs have been submitted to VA for all GPD grants.

viii. Your organization is up to date on any actions required by an A-133 Single Audit or a VA-specific fiscal review (e.g., a fiscal review of GPD or SSVF grants conducted by VA's Office of Business Oversight).

ix. Your organization does not have an outstanding GPD, VA or Federal debt.

x. Your organization continues to meet the management standards described in 2 CFR part 200 and 38 CFR part 61 and continues to be able to effectively implement statutory, regulatory and other requirements imposed on grantees (per requirements such as 2 CFR 200.206(b)(2)).

3. Closeout

a. A final SF-425 FFR is due within 120 days of the grant end date. Grantees who do not comply are subject to public reporting for material failure to comply with the terms of the award on the Federal websites, FAPIIS and SAM (per 2 CFR 200.344).

b. Grantees must promptly refund any balances of unobligated funding that are not authorized to be retained. Any funds paid to the grantee in excess of the amount to which the grantee is finally determined to be entitled under the terms of the Federal award constitute a debt to the Federal Government (2 CFR 200.346).

c. Refer to the terms and conditions of the grant agreement for other closeout requirements and ongoing requirements after closeout, to include audits and records retention. Applicants may refer to the GPD website for a sample of the standard terms and conditions of award.

Signing Authority

Denis McDonough, Secretary of Veterans Affairs, approved this document on January 27, 2023, and authorized the undersigned to sign and submit the document to the Office of the Federal Register for publication electronically as an official document of the Department of Veterans Affairs.

Luvenia Potts,
Regulation Development Coordinator, Office of Regulation Policy & Management, Office of the Secretary, Department of Veterans Affairs.

[FR Doc. 2023-02341 Filed 2-2-23; 8:45 am]

BILLING CODE 8320-01-P